DEPARTMENT OF COMMERCE

International Trade Administration

[A-557-830]

Crystalline Silicon Photovoltaic Cells, Whether or Not Assembled Into Modules, From Malaysia: Amended Preliminary Determination of Less-Than-Fair-Value Investigation

AGENCY: Enforcement and Compliance, International Trade Administration, Department of Commerce.

SUMMARY: The U.S. Department of Commerce (Commerce) is amending its preliminary affirmative determination in the less-than-fair-value (LTFV) investigation of crystalline silicon photovoltaic cells, whether or not assembled into modules (solar cells), from Malaysia to correct two significant ministerial errors. The period of investigation (POI) is April 1, 2023, through March 31, 2024.

DATES: Applicable January 6, 2025.

FOR FURTHER INFORMATION CONTACT: Patrick Barton or Elizabeth Talbot Russ, AD/CVD Operations, Office III, Enforcement and Compliance, International Trade Administration, U.S. Department of Commerce, 1401 Constitution Avenue NW, Washington, DC 20230; telephone: (202) 482-0012 or (202) 482-5516 respectively.

SUPPLEMENTARY INFORMATION:

Background

On December 4, 2024, Commerce published in the Federal Register its preliminary affirmative determination in the LTFV investigation of solar cells from Malaysia.¹ On December 9, 2024, a mandatory respondent, Jinko Solar Technology Sdn. Bhd. (Jinko Solar), timely alleged that Commerce made a significant ministerial error in calculating its estimated weighted-average dumping margin.² On December 9, 2024, the American Alliance for Solar Manufacturing Trade Committee (the petitioner) timely alleged that Commerce made ministerial errors in calculating Jinko Solar's estimated weighted-average dumping margin.³

¹ See Crystalline Silicon Photovoltaic Cells, Whether or Not Assembled Into Modules, From Malaysia: Affirmative Preliminary Determination of Sales at Less Than Fair Value, Postponement of Final Determination, and Extension of Provisional Measures, 89 FR 96207 (December 4, 2024) (Preliminary Determination), and accompanying Preliminary Decision Memorandum.

² See Jinko Solar's Letter, “Jinko Request to Correct Ministerial Error,” dated December 9, 2024.

³ See Petitioner's Letter, “Ministerial Error Allegation,” dated December 9, 2024.

Scope of the Investigation

The products covered by this investigation are solar cells from Malaysia. For a complete description of the scope of this investigation, see the Preliminary Determination.

Legal Framework

A ministerial error is defined as including errors “in addition, subtraction, or other arithmetic function, clerical error resulting from inaccurate copying, duplication, or the like, and any other similar type of unintentional error which {Commerce} considers ministerial.” ⁴ A ministerial error is considered to be “significant” if its correction, either singly or in combination with other errors, would result in: (1) a change of at least five absolute percentage points in, but not less than 25 percent of, the weighted-average dumping margin calculated in the preliminary determination; or (2) a difference between a weighted-average dumping margin of zero (or de minimis) and a weighted-average dumping margin of greater than de minimis or vice versa.⁵ Pursuant to 19 CFR 351.224(e), Commerce “will analyze any comments received and, if appropriate, correct any significant ministerial error by amending the preliminary determination.”

⁴ See section 735(e) of the Tariff Act of 1930, as amended (the Act); see also 19 CFR 351.224(f).

⁵ See 19 CFR 351.224(g).

Analysis of Significant Ministerial Errors

In the Preliminary Determination, Commerce made significant ministerial errors within the meaning of section 735(e) of the Act and 19 CFR 351.224(f) and (g) in calculating the weighted-average dumping margin for Jinko Solar. Specifically, Commerce failed to convert certain Malaysian ringgit (MYR)-denominated expense fields to U.S. dollars (USD) for the purposes of its dumping margin calculations.⁶ Moreover, Commerce did not correctly implement its decision to consolidate certain of Jinko Solar's U.S. customer codes (CUSCODU) in the dumping margin calculations.⁷

⁶ See Petitioner's Letter “Ministerial Error Allegation,” dated December 9, 2024.

⁷ See Jinko Solar's Letter “Jinko Request to Correct Ministerial Error,” dated December 9, 2024.

We find that these errors meet the definition of “ministerial errors,” and that the corrections of the errors for Jinko Solar results in a change that is at least five absolute percentage points in, and not less than 25 percent of, the margin calculated for Jinko Solar in the Preliminary Determination. As such, they constitute significant errors within the meaning of 19 CFR 351.224(g). Accordingly, pursuant to 19 CFR 351.224(e), Commerce is amending the Preliminary Determination to correct these significant ministerial errors by revising the rates for Jinko Solar and all other producers and/or exporters.⁸

⁸ See Memorandum, “Analysis of Ministerial Error Allegations,” dated concurrently with, and hereby adopted by, this notice (Ministerial Error Memorandum).

For a complete discussion of the alleged ministerial errors, see the Ministerial Error Memorandum.

Amended Preliminary Determination

As a result of correcting the significant ministerial errors for Jinko Solar, Commerce determines the following estimated weighted-average dumping margins exist:

Exporter/producer | Weighted-average dumping margin (percent) | Cash deposit rate (adjusted for subsidy offsets(s)) (percent)
Hanwha Q Cells Malaysia Sdn. Bhd | 0.00 | 0.00
Jinko Solar Technology Sdn. Bhd | 9.90 | ⁹ 6.43
Baojia New Energy Manufacturing Sdn | * 81.24 | * 81.24
CRC Solar Cell Joint Stock Company | * 81.24 | * 81.24
Lynter Enterprise | * 81.24 | * 81.24
Mega PP Sdn. Bhd | * 81.24 | * 81.24
All Others | 9.90 | 6.43
* Rates based on facts available with adverse inferences.

Disclosure

We intend to disclose the calculations performed for this amended preliminary determination to parties within five days after public announcement or, if there is no public announcement, within five days of the date of publication of this notice, in accordance with 19 CFR 351.224.

⁹ See Memorandum, “Countervailing Duty Investigation of Crystalline Silicon Photovoltaic Cells, Whether or Not Assembled into Modules, from Malaysia: Amended Preliminary Determination Calculations for Jinko Solar Technology Sdn. Bhd.,” dated October 31, 2024.

Amended Cash Deposits and Suspension of Liquidation

The collection of cash deposits and suspension of liquidation will be revised according to the rates calculated in this amended preliminary determination, in accordance with section 733(d) of the Act. Because the amended rate for Jinko Solar and all other producers and/or exporters result in decreased cash deposit rates, the amended rates will be effective retroactively to December 4, 2024, the date of publication of the Preliminary Determination. We will also instruct U.S. Customs and Border Protection to issue instructions for requesting a refund of the difference between the amount of cash deposits paid as a result of the application of the Preliminary Determination rates and the amount due as a result of the amended preliminary determination rates.

Notification of U.S. International Trade Commission

In accordance with section 733(f) of the Act, we intend to notify the U.S. International Trade Commission of our amended preliminary determination.

Notification to Interested Parties

This notice is issued and published pursuant to sections 733(d) and 777(i) of the Act, and 19 CFR 351.224(e).

Dated: December 30, 2024.
Abdelali Elouaradia,
Deputy Assistant Secretary for Enforcement and Compliance.

[FR Doc. 2024-31764 Filed 1-3-25; 8:45 am]

BILLING CODE 3510-DS-P